DEPARTMENT OF COMMERCE

Census Bureau

Proposed Information Collection; Comment Request; Census Employment Inquiry

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before September 24, 2007.

ADDRESSES: Direct all written comments to Diana Hynek, Departmental Paperwork Clearance Officer, Department of Commerce, Room 6625, 14th and Constitution Avenue, NW., Washington, DC 20230 (or via the Internet at DHynek@doc.gov).

FOR FURTHER INFORMATION CONTACT: Requests for additional information or copies of the information collection instrument(s) and instructions should be directed to Neal E. McArthur, 4600 Silver Hill Rd., Room 5H036B, Suitland, MD 20746 (or via the Internet at Neal.E.McArthur@census.gov).

SUPPLEMENTARY INFORMATION:

I. Abstract

The BC-170A, BC-170B, and the BC-170D are used to collect information such as personal data and work experience from job applicants. Selecting officials review the information shown on the form to evaluate an applicant's eligibility for employment and to determine the best-qualified applicants to fill Census jobs. The three forms are tailored to the particular job type for which application is made.

The BC-170 series of forms is used throughout the census and intercensal periods for the special census, pretests, and dress rehearsals for short-term time limited appointments. Applicants completing the form for census related positions are applying for temporary jobs in office and field positions (clerks, enumerators, crew leaders, supervisors). In addition, the BC-170 may be used as an alternative when applying for temporary/permanent office and field positions (clerks, field representatives, supervisors) on a recurring survey in one of the Census Bureau's twelve Regional Offices (ROs) throughout the United States. During the decennial census, the BC-170 is intended to expedite hiring and selection in situations requiring large numbers of temporary employees for assignments of a limited duration. The use of this form is limited to only situations which require the establishment of a temporary office and/or involve special, one-time or recurring survey operations at one of the ROs. The form has been demonstrated to meet our recruitment needs for temporary workers and requires significantly less burden than the Office of Personnel Management (OPM) Optional Forms that are available for use by the public when applying for Federal positions.

II. Method of Collection

The information is collected in paper format at the time of testing for temporary and permanent positions. Potential employees being tested complete the application at that time.

III. Data

OMB Number: 0607-0139.

Form Numbers: BC-170A, BC-170B, and BC-170D.

Type of Review: Regular submission.

Affected Public: Individuals or households.

Estimated Number of Respondents: 3,000,000.

Estimated Time per Response: 15 minutes.

Estimated Total Annual Burden Hours: 750,000.

Estimated Total Annual Cost: $0.

Respondent's Obligation: Required to obtain or retain a benefit.

Legal Authority: Title 13 U.S.C. Section 23.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 20, 2007.
Gwellnar Banks,
Management Analyst, Office of the Chief Information Officer.

[FR Doc. E7-14453 Filed 7-25-07; 8:45 am]

BILLING CODE 3510-07-P